DEPARTMENT OF HOMELAND SECURITY

Federal Emergency Management Agency

44 CFR Part 64

[Docket ID FEMA-2012-0003; Internal Agency Docket No. FEMA-8231]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/ cancellation of sale of flood insurance in community | Current effective map date | Date certain Federal assistance no longer available in SFHAs
Region III
Pennsylvania:
Annville, Township of, Lebanon County | 420570 | March 16, 1973, Emerg; April 15, 1977, Reg; June 5, 2012, Susp. | June 5, 2012 | June 5, 2012.
Bethel, Township of, Lebanon County | 420967 | January 23, 1974, Emerg; September 30, 1981, Reg; June 5, 2012, Susp. | ......do* | Do.
Cleona, Borough of, Lebanon County | 420571 | March 9, 1973, Emerg; April 1, 1977, Reg; June 5, 2012, Susp. | ......do | Do.
Cornwall, Borough of, Lebanon County | 420968 | April 17, 1973, Emerg; August 5, 1985, Reg; June 5, 2012, Susp. | ......do | Do.
East Hanover, Township of, Lebanon County | 421012 | April 10, 1973, Emerg; August 15, 1979, Reg; June 5, 2012, Susp. | ......do | Do.
Heidelberg, Township of, Lebanon County | 420969 | August 27, 1973, Emerg; January 20, 1982, Reg; June 5, 2012, Susp. | ......do | Do.
Jackson, Township of, Lebanon County | 421805 | January 21, 1975, Emerg; September 30, 1981, Reg; June 5, 2012, Susp. | ......do | Do.
Jonestown, Borough of, Lebanon County | 420572 | December 29, 1972, Emerg; December 4, 1979, Reg; June 5, 2012, Susp. | ......do | Do.
Lebanon, City of, Lebanon County | 420573 | January 26, 1973, Emerg; December 4, 1979, Reg; June 5, 2012, Susp. | ......do | Do.
Millcreek, Township of, Lebanon County | 420574 | August 27, 1973, Emerg; November 18, 1983, Reg; June 5, 2012, Susp. | ......do | Do.
Myerstown, Borough of, Lebanon County | 420575 | August 27, 1973, Emerg; July 5, 1977, Reg; June 5, 2012, Susp. | ......do | Do.
North Annville, Township of, Lebanon County | 420970 | October 19, 1973, Emerg; September 28, 1979, Reg; June 5, 2012, Susp. | ......do | Do.
North Cornwall, Township of, Lebanon County | 420576 | March 16, 1973, Emerg; January 2, 1981, Reg; June 5, 2012, Susp. | ......do | Do.
North Lebanon, Township of, Lebanon County | 421131 | March 8, 1974, Emerg; September 2, 1981, Reg; June 5, 2012, Susp. | ......do | Do.
North Londonderry, Township of, Lebanon County | 420577 | August 29, 1973, Emerg; September 28, 1979, Reg; June 5, 2012, Susp. | ......do | Do.
South Annville, Township of, Lebanon County | 420580 | May 11, 1973, Emerg; December 16, 1980, Reg; June 5, 2012, Susp. | ......do | Do.
South Lebanon, Township of, Lebanon County | 420581 | March 16, 1973, Emerg; December 15, 1981, Reg; June 5, 2012, Susp. | ......do | Do.
South Londonderry, Township of, Lebanon County | 421043 | February 15, 1974, Emerg; March 4, 1986, Reg; June 5, 2012, Susp. | ......do | Do.
Swatara, Township of, Lebanon County | 420582 | August 9, 1973, Emerg; December 1, 1981, Reg; June 5, 2012, Susp. | ......do | Do.
Union, Township of, Lebanon County | 421806 | October 10, 1974, Emerg; December 4, 1979, Reg; June 5, 2012, Susp. | ......do | Do.
West Cornwall, Township of, Lebanon County | 420583 | March 23, 1973, Emerg; December 14, 1979, Reg; June 5, 2012, Susp. | ......do | Do.
West Lebanon, Township of, Lebanon County | 421166 | April 26, 1974, Emerg; April 15, 1977, Reg; June 5, 2012, Susp. | ......do | Do.
West Virginia:
Albright, Town of, Preston County | 540161 | June 23, 1975, Emerg; August 1, 1987, Reg; June 5, 2012, Susp. | ......do | Do.
Bruceton Mills, Town of, Preston County | 540162 | May 22, 1975, Emerg; August 1, 1987, Reg; June 5, 2012, Susp. | ......do | Do.
Kingwood, City of, Preston County | 540254 | April 28, 1977, Emerg; November 12, 1986, Reg; June 5, 2012, Susp. | ......do | Do.
Newburg, Town of, Preston County | 540268 | June 9, 1975, Emerg; August 1, 1987, Reg; June 5, 2012, Susp. | ......do | Do.
Preston County, Unincorporated Areas | 540160 | August 20, 1976, Emerg; March 1, 1987, Reg; June 5, 2012, Susp. | ......do | Do.
Reedsville, Town of, Preston County | 540269 | November 24, 1975, Emerg; August 1, 1987, Reg; June 5, 2012, Susp. | ......do | Do.
Rowlesburg, Town of, Preston County | 540163 | November 8, 1974, Emerg; August 1, 1979, Reg; June 5, 2012, Susp. | ......do | Do.
Terra Alta, Town of, Preston County | 540257 | September 3, 1975, Emerg; August 25, 1987, Reg; June 5, 2012, Susp. | ......do | Do.
Region IV
Alabama:
Atmore, City of, Escambia County | 010071 | April 2, 1975, Emerg; June 24, 1977, Reg; June 5, 2012, Susp. | ......do | Do.
Brewton, City of, Escambia County | 010072 | April 4, 1975, Emerg; December 18, 1979, Reg; June 5, 2012, Susp. | ......do | Do.
East Brewton, City of, Escambia County | 010073 | June 25, 1975, Emerg; December 4, 1979, Reg; June 5, 2012, Susp. | ......do | Do.
Escambia County, Unincorporated Areas | 010251 | March 31, 1998, Emerg; September 28, 2007, Reg; June 5, 2012, Susp. | ......do | Do.
Flomaton, Town of, Escambia County | 010074 | August 26, 1975, Emerg; December 17, 1987, Reg; June 5, 2012, Susp. | ......do | Do.
Pollard, Town of, Escambia County | 010075 | February 28, 1992, Emerg; September 28, 2007, Reg; June 5, 2012, Susp. | ......do | Do.
Riverview, Town of, Escambia County | 010076 | June 25, 1975, Emerg; September 4, 1986, Reg; June 5, 2012, Susp. | ......do | Do.
Kentucky:
Clark County, Unincorporated Areas | 210278 | May 13, 1976, Emerg; December 4, 1986, Reg; June 5, 2012, Susp. | ......do | Do.
Menifee County, Unincorporated Areas | 210344 | January 25, 1999, Emerg; June 5, 2012, Reg; June 5, 2012, Susp. | ......do | Do.
Winchester, City of, Clark County | 210056 | February 27, 1975, Emerg; July 3, 1986, Reg; June 5, 2012, Susp. | ......do | Do.
Region V
Indiana:
Cloverdale, Town of, Putnam County | 180215 | May 9, 1975, Emerg; June 17, 1986, Reg; June 5, 2012, Susp. | ......do | Do.
Putnam County, Unincorporated Areas | 180213 | January 8, 1988, Emerg; October 1, 1992, Reg; June 5, 2012, Susp. | ......do | Do.
Region VI
Arkansas:
Benton County, Unincorporated Areas | 050419 | April 29, 1988, Emerg; September 18, 1991, Reg; June 5, 2012, Susp. | ......do | Do.
Bentonville, City of, Benton County | 050012 | January 3, 1975, Emerg; July 16, 1980, Reg; June 5, 2012, Susp. | ......do | Do.
Centerton, City of, Benton County | 050399 | August 14, 1975, Emerg; August 24, 1982, Reg; June 5, 2012, Susp. | ......do | Do.
Gould, City of, Lincoln County | 050127 | July 26, 1974, Emerg; August 19, 1987, Reg; June 5, 2012, Susp. | ......do | Do.
Grady, City of, Lincoln County | 050128 | May 1, 1975, Emerg; October 12, 1982, Reg; June 5, 2012, Susp. | ......do | Do.
Highfill, Town of, Benton County | 050581 | N/A, Emerg; July 22, 2003, Reg; June 5, 2012, Susp. | ......do | Do.
Star City, City of, Lincoln County | 050368 | May 30, 1975, Emerg; March 1, 1988, Reg; June 5, 2012, Susp. | ......do | Do.
Texas:
Corsicana, City of, Navarro County | 480498 | December 19, 1974, Emerg; August 17, 1981, Reg; June 5, 2012, Susp. | ......do | Do.
Frost, City of, Navarro County | 480954 | July 9, 1976, Emerg; August 8, 1978, Reg; June 5, 2012, Susp. | ......do | Do.
Kerens, City of, Navarro County | 480955 | September 8, 1975, Emerg; May 25, 1978, Reg; June 5, 2012, Susp. | ......do | Do.
Powell, City of, Navarro County | 480390 | July 7, 2010, Emerg; June 5, 2012, Reg; June 5, 2012, Susp. | ......do | Do.
Rice, City of, Navarro County | 480957 | N/A, Emerg; April 9, 2009, Reg; June 5, 2012, Susp. | ......do | Do.
Region VII
Missouri:
Benton, City of, Scott County | 290852 | September 26, 1975, Emerg; August 24, 1984, Reg; June 5, 2012, Susp. | ......do | Do.
Blodgett, Village of, Scott County | 290771 | September 21, 1976, Emerg; June 1, 1987, Reg; June 5, 2012, Susp. | ......do | Do.
Chaffee, City of, Scott County | 290409 | March 6, 1975, Emerg; September 27, 1985, Reg; June 5, 2012, Susp. | ......do | Do.
Commerce, City of, Scott County | 290410 | April 1, 1974, Emerg; June 1, 1978, Reg; June 5, 2012, Susp. | ......do | Do.
Haywood City, Village of, Scott County | 290598 | May 9, 1975, Emerg; February 11, 1976, Reg; June 5, 2012, Susp. | ......do | Do.
Miner, City of, Scott County | 290687 | July 24, 1975, Emerg; December 21, 1984, Reg; June 5, 2012, Susp. | ......do | Do.
Morley, City of, Scott County | 290412 | May 6, 1975, Emerg; September 10, 1984, Reg; June 5, 2012, Susp. | ......do | Do.
Scott City, City of, Scott County | 290414 | November 28, 1975, Emerg; May 4, 1988, Reg; June 5, 2012, Susp. | ......do | Do.
Sikeston, City of, Scott County | 295270 | August 3, 1971, Emerg; August 3, 1971, Reg; June 5, 2012, Susp. | ......do | Do.
Region VIII
Montana:
Hot Springs, Town of, Sanders County | 300073 | April 20, 1976, Emerg; October 15, 1985, Reg; June 5, 2012, Susp. | ......do | Do.
Plains, Town of, Sanders County | 300074 | September 14, 1977, Emerg; April 15, 1986, Reg; June 5, 2012, Susp. | ......do | Do.
Sanders County, Unincorporated Areas | 300072 | December 20, 1995, Emerg; March 1, 1996, Reg; June 5, 2012, Susp. | ......do | Do.
* do = Ditto.
Code for reading third column: Emerg.—Emergency; Reg.—Regular; Susp.—Suspension.

Dated: May 4, 2012.
David L. Miller,
Associate Administrator, Federal Insurance and Mitigation Administration, Department of Homeland Security, Federal Emergency Management Agency.

[FR Doc. 2012-12122 Filed 5-17-12; 8:45 am]

BILLING CODE 9110-12-P